DEPARTMENT OF TRANSPORTATION

Federal Aviation Administration

Notice of Intent To Request Renewal From the Office of Management and Budget (OMB) of Three Current Public Collections of Information

AGENCY: Federal Aviation Administration (FAA) (DOT)

ACTION: Notice.

SUMMARY: In compliance with the Paperwork Reduction Act (44 U.S.C. 3501 et seq.), the FAA invites public comment on 3 current public information collections which will be submitted to OMB for renewal.

DATES: Comments must be submitted on or before December 1, 2000.

ADDRESSES: Comments may be mailed or delivered to FAA, at the following address: Ms. Judy Street, Room 612, Federal Aviation Administration, Standards and Information Division, APF-100, 800 Independence Avenue, S.W., Washington, DC 20591.

FOR FURTHER INFORMATION CONTACT: Ms. Judy Street, at the above address or on (202) 267-9895.

SUPPLEMENTARY INFORMATION: The FAA solicits comments on any of the current collections of information in order to evaluate the necessity of the collection, the accuracy of the agency's estimate of burden, the quality, utility, and clarity of the information to be collected, and possible ways to minimize the burden of collection. Also note that an agency may not conduct or sponsor, and a person is not required to respond to, a collection of information unless it displays a currently valid OMB control number.

Following are short synopses of the 3 information collection activities which will be submitted to OMB for requests for renewal:

1. 2120-0021, Certification: Pilots and Flight Instructors. The FAA is empowered to issue airmen certificates to properly qualified persons. This clearance request covers the burden imposed on airmen directly responsible for the control of aircraft. 14 CFR part 61 prescribes requirements for pilot and flight instructor certificates. Information collected is used to determined compliance and applicant eligibility. The number of respondents is estimated to be 770,000. The current burden for this collection is estimated to be 252,000 hours for reporting and recordkeeping.

2. 2120-0036, Notice of Landing Area Proposal. 14 CFR part 157 requires that each person who intends to construct, activate, deactivate, or changes the status of an airport, runway, or taxiway shall notify the FAA. FAA Form 7480-1, Notice of Landing Area Proposal, is used to collect the required information on an as needed basis. The current burden is estimated to be 2,500 hours, and the estimated number of respondents is estimated to be 3,400.

3. 2120-0620, Special Federal Aviation Regulation No. 71. SFAR No. 71 applies to air tour operators in Hawaii. SFAR 71 requires air tour operators to verbally brief the passengers on safety particularly related to overwater operations before each air tour flight.

Issued in Washington, DC on September 26, 2000.
Steve Hopkins,
Manager, Standards and Information Division, APF-100.

[FR Doc. 00-25263 Filed 9-29-00; 8:45 am]

BILLING CODE 4910-13-M